DEPARTMENT OF COMMERCE

International Trade Administration

[A-557-809]

Stainless Steel Butt-Weld Pipe Fittings from Malaysia: Rescission of Antidumping Duty Administrative Review

AGENCY: Import Administration, International Trade Administration, Department of Commerce.

EFFECTIVE DATE: July 21, 2005.

FOR FURTHER INFORMATION CONTACT: Thomas Martin or Mark Manning, AD/CVD Operations, Office 4, Import Administration, International Trade Administration, U.S. Department of Commerce; 14th Street and Constitution Avenue, NW, Washington, DC 20230; telephone: (202) 482-3936 or (202) 482-5253, respectively.

SUPPLEMENTARY INFORMATION: On February 28, 2005, the Department of Commerce (the Department) received a timely request from Schultz (Mfg.) Sdn. Bhd. (Schultz), to conduct an administrative review of the antidumping duty order on stainless steel butt-weld pipe fittings from Malaysia, for the period February 1, 2004, through January 31, 2005. On March 23, 2005, the Department initiated an administrative review and published a notice of initiation in the Federal Register. See Initiation of Antidumping and Countervailing Duty Administrative Reviews and Requests for Revocation in Part, 70 FR 14643 (March 23, 2005). On March 23, 2005, Schultz withdrew its request for an administrative review. In accordance with 19 CFR 351.213(d)(1), the Department is rescinding this review because the requestor of this review has timely withdrawn its request for review, and no other interested party has requested a review.

Rescission of Review

Pursuant to 19 CFR 351.213(d)(1), the Department will rescind an administrative review if the party that requested a review withdraws the request within 90 days of the date of publication of the notice of initiation of the requested review. Because Schultz withdrew its review request within the 90-day time limit, the Department is rescinding this review.

Assessment

The Department will instruct U.S. Customs and Border Protection (CBP) to assess antidumping duties on all appropriate entries. Antidumping duties for this rescinded company shall be assessed at rates equal to the cash deposit of estimated antidumping duties required at the time of entry, or withdrawal from warehouse, for consumption, in accordance with 19 CFR 351.212(c)(1)(i). The Department will issue appropriate assessment instructions directly to CBP within 15 days of publication of this notice.

This notice is published in accordance with 19 CFR 351.213(d)(4) and section 777(i)(1) of the Tariff Act of 1930, as amended.

Dated: July 14, 2005.
Susan H. Kuhbach,
Acting Deputy Assistant Secretary for Import Administration.

[FR Doc. E5-3904 Filed 7-20-05; 8:45 am]

BILLING CODE 3510-DS-S